DEPARTMENT OF EDUCATION

Applications for New Awards; Supplemental Assistance to Institutions of Higher Education (SAIHE); Correction

AGENCY: Office of Postsecondary Education, Department of Education.

ACTION: Notice; correction.

SUMMARY: On March 29, 2021, the Department of Education (Department) published in the Federal Register a notice inviting applications (NIA) for new awards for fiscal year (FY) 2021 for the Supplemental Assistance to Institutions of Higher Education, Assistance Listing Number 84.425S. We are correcting the year of the Pell Grant recipient percent that institutions must meet to be eligible under Absolute Priority 6. We are also clarifying the eligibility requirements under Absolute Priorities 2 and 5.

DATES: This correction is applicable April 7, 2021.

FOR FURTHER INFORMATION CONTACT: Karen Epps, U.S. Department of Education, 400 Maryland Avenue SW, Room 2B133, Washington, DC 20202. Telephone: (202) 377-3711. Email: HEERF@ed.gov.

If you use a telecommunications device for the deaf (TDD) or a text telephone (TTY), call the Federal Relay Service (FRS), toll free, at 1-800-877-8339.

SUPPLEMENTARY INFORMATION: On March 29,2021, we published in the Federal Register the NIA for the FY 2021 Supplemental Assistance to Institutions of Higher Education grant opportunity (86 FR 16338). This notice corrects the year of the Pell Grant recipient percent that institutions must meet to be eligible for Absolute Priority 6 to Fall 2019. We also remove the reference to the “December 27, 2020” date with regard to institutional eligibility for Absolute Priorities 2 and 5. All other requirements and conditions in the NIA remain the same.

Corrections

In FR Doc. 2021-06527 appearing on page 16338 of the Federal Register of March 29, 2021, we make the following corrections:

1. On page 16339, in the first column, in the fourth line of the fourth paragraph, remove “after December 27, 2020 (the date CRRSAA was enacted)”.

2. On page 16339, in the middle column, in the seventh line, remove “2018” and add, in its place, “2019”.

3. On page 16340, in the middle column, in the fourth line, add “an” prior to “eligible” and remove “on or after December 27, 2020”.

Program Authority: The Coronavirus Response and Relief Supplemental Appropriations Act, 2021 (CRRSAA), Division M of Public Law 116-260.

Accessible Format: On request to the contact person listed under FOR FURTHER INFORMATION CONTACT, individuals with disabilities can obtain this notice, the NIA, and a copy of the application in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Michelle Asha Cooper,
Acting Assistant Secretary for Postsecondary Education.

[FR Doc. 2021-07099 Filed 4-6-21; 8:45 am]

BILLING CODE 4000-01-P